DEPARTMENT OF THE INTERIOR

Fish and Wildlife Service

[FWS-R1-ES-2025-N012; FXES11130100000-245-FF01E00000]

Endangered Species; Receipt of Recovery Permit Applications

AGENCY: Fish and Wildlife Service, Interior.

ACTION: Notice of receipt of permit applications; request for comments.

SUMMARY: We, the U.S. Fish and Wildlife Service, have received applications for permits to conduct activities intended to enhance the propagation and survival of endangered species under the Endangered Species Act. We invite the public and local, State, Tribal, and Federal agencies to comment on these applications. Before issuing the requested permits, we will take into consideration any information that we receive during the public comment period.

DATES: We must receive your written comments on or before June 23, 2025.

ADDRESSES: Use one of the following methods to request documents or submit comments. Requests and comments should specify the applicant's name and application number (e.g., PER0001234).

• Email: permitsR1ES@fws.gov.

• U.S. Mail: Tanya Sommer, Threatened and Endangered Species Program Manager, Ecological Services, U.S. Fish and Wildlife Service, Pacific Regional Office, 911 NE 11th Avenue, Portland, OR 97232-4181.

FOR FURTHER INFORMATION CONTACT: Karen Colson, Regional Recovery Permit Coordinator, Ecological Services, (503) 231-6283 (telephone); permitsR1ES@fws.gov (email). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite local, State and Federal agencies, Tribes, and the public to review and comment on applications we have received for permits under section 10(a)(1)(A) of the Endangered Species Act of 1973, as amended (ESA; 16 U.S.C. 1531 et seq.), and our implementing regulations in part 17 of title 50 of the Code of Federal Regulations. The requested permits would allow the applicants to conduct activities intended to promote recovery of a species listed as endangered under the ESA. Documents and other information submitted with the applications are available for review, subject to the requirements of the Privacy Act of 1974, as amended (5 U.S.C. 552a) and the Freedom of Information Act (5 U.S.C. 552).

Background

With some exceptions, the ESA prohibits activities that constitute take of listed species unless a Federal permit is issued that allows such activity. The ESA's definition of “take” includes such activities as pursuing, harassing, trapping, capturing, or collecting, in addition to hunting, shooting, harming, wounding, or killing.

A recovery permit issued by us under section 10(a)(1)(A) of the ESA authorizes the permittee to conduct activities with endangered or threatened species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing the requested permits. Accordingly, we invite local, State, Tribal, and Federal agencies and the public to submit written data, views, or arguments with respect to these applications. The comments and recommendations that will be most useful and likely to influence agency decisions are those supported by quantitative information or studies.

Application No. | Applicant, city, state | Species | Location | Take activity | Permit action
PER18264977 | University of Hawai'i at Mānoa/College of Tropical Agriculture & Human Resources, Honolulu, HI | Hawaiian gallinule (Gallinula galeata sandvicensis), Hawaiian coot (Fulica alai), and Hawaiian stilt (Himantopus mexicanus knudseni) | Hawaiian Islands | Survey and monitor nests, capture, handle, band, measure, weigh, collect biological samples, attach transmitters, handle/float eggs, release, recapture, and salvage | New.
PER18306523 | Zoological Subdistrict of the Metropolitan Zoological Park and Museum District, Saint Louis, MO | Humped tree snail (Partula gibba), fragile tree snail (Samoana fragilis), and Guam tree snail (Partula radiolata) | Missouri, Guam | Capture, handle, collect, captive propagation, release, and salvage | New.
PER1353215-2 | Clare Aslan, Northern Arizona University, AZ | A'e (Zanthoxylum hawaiiense) | Hawai'i | Collect seed | Amend.
ES739923-10 | Hawai'i Volcanoes National Park, Hilo, HI | Hawksbill sea turtle (Eretmochelys imbricata) | Hawai'i | Capture, measure, mark, tag, attach transmitters, biopsy, and release adults; locate, monitor, screen, and excavate nests; relocate eggs; release live hatchlings; and salvage | Renew with changes.
ES798744-10 | Kootenai Tribe of Idaho, Bonners Ferry, ID | Kootenai River white sturgeon (Acipenser transmontanus) | Idaho, Montana | Capture, hold, measure, mark, tag, remove, collect biological samples, transport, and release | Renew with changes.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Next Steps

If we decide to issue a permit to any of the applicants listed in this notice, we will publish a notice in the Federal Register.

Authority

We publish this notice under section 10(c) of the Endangered Species Act of 1973, as amended (16 U.S.C. 1531 et seq.).

Tanya Sommer,
Threatened and Endangered Species Program Manager, Pacific Region.

[FR Doc. 2025-09235 Filed 5-21-25; 8:45 am]

BILLING CODE 4333-15-P